CONSUMER PRODUCT SAFETY COMMISSION

[CPSC Docket No. CPSC-2009-0095]

Notice of Workshop on Product Testing; Correction

AGENCY: Consumer Product Safety Commission.

ACTION: Notice; correction.

SUMMARY: The Consumer Product Safety Commission published a notice in the Federal Register of November 13, 2009, announcing an upcoming workshop on product testing. The document contained an incorrect telephone number.

FOR FURTHER INFORMATION CONTACT: Todd A. Stevenson, Office of the Secretary, Consumer Product Safety Commission, 4330 East West Highway, Bethesda, Maryland 20814; telephone: 301-504-6836.

Correction

In the Federal Register of November 13, 2009 (74 FR 58611), on page 58612, at the top of the first column under the heading FOR FURTHER INFORMATION CONTACT, the correct telephone number should be (301) 504-7621.

Dated: November 13, 2009.
Todd A. Stevenson,
Secretary, Consumer Product Safety Commission.

[FR Doc. E9-27830 Filed 11-18-09; 8:45 am]

BILLING CODE 6355-01-P